INTERNATIONAL TRADE COMMISSION

[Investigation No. 337-TA-1284]

Certain Electronic Devices Having Wireless Communication Capabilities and Components Thereof; Institution of Investigation

AGENCY: U.S. International Trade Commission.

ACTION: Notice.

SUMMARY: Notice is hereby given that a complaint was filed with the U.S. International Trade Commission on September 27, 2021, under section 337 of the Tariff Act of 1930, as amended, on behalf of Bell Northern Research, LLC of Chicago, Illinois. A supplement was filed on October 15, 2021. The complaint alleges violations of section 337 based upon the importation into the United States, the sale for importation, and the sale within the United States after importation of certain electronic devices having wireless communication capabilities and components thereof by reason of infringement of certain claims of U.S. Patent No. 8,204,554 (“the `554 patent”); U.S. Patent No. 7,319,889 (“the `889 patent”); U.S. Patent No. RE 48,629 (“the `629 patent”); and U.S. Patent No. 8,416,862 (“the `862 patent”). The complaint further alleges that an industry in the United States exists as required by the applicable Federal Statute.

The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on October 26, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 4-9, and 11-14 of the '554 patent; claims 1, 2, 4-6, 8, 9, 11, and 12 of the '889 patent; claims 1, 8-11, 13, 14, 19, 20, and 27 of the '629 patent; and claims 1-4 and 9-12 of the '862 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “mobile devices (specifically, mobile telephones and tablet computers), personal computers, and televisions having wireless communication capabilities, and components thereof”;

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. l337(d)(l), (f)(1), (g)(1);

(4) For the purpose of the investigation so instituted, the following are hereby named as parties upon which this notice of investigation shall be served:

(a) The complainant is:

Bell Northern Research, LLC, 401 North Michigan Avenue, Chicago, Illinois 60611

(b) The respondents are the following entities alleged to be in violation of section 337, and are the parties upon which the complaint is to be served:

Lenovo Group Ltd., No. 6 Chuang Ye Road, Shangdi Information Industry Base, Haidan District 100085, China

Lenovo (United States), Inc., 1009 Think Pl., Morrisville, NC 27560

Motorola Mobility LLC, 222 W. Merchandise Mart Plaza, Suite 1800, Chicago, IL 60654

TCL Electronics Holdings Limited, 7/F, TCL Building, 22 Science Park East Avenue, 22E, Hong Kong Science Park, Hong Kong

TCT Mobile (US) Inc., 25 Edelman, Suite 200, Irvine, California 92618

TTE Technology, Inc., 1860 Compton Avenue, Corona, CA 92881

BLU Products, Inc., 10814 NW 33rd St., Building 100, Doral, Florida 33172

BBK Electronics Corp., 23 Bubugao Avenue, Wusha Village, Chang'an District, Dongguan, Guangdong, 523860, China

OnePlus Technology Co., Ltd., 18F, Block C, Shenye Tairan Bldg., Tairan Eighth Road, Chegongmiao, Futian District, Shenzhen, Guangdong, 518048, China

HMD Global Oy, Bertel Jungin aukio 9, Espoo 02600, Finland

HMD America, Inc., 1200 Brickell Ave., Suite 510, Miami, Florida 33131

Sonim Technologies, Inc., 6500 River Place Blvd., Building 7, Suite 250, Austin, Texas 78730

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 27, 2021.
Lisa Barton,
Secretary to the Commission.

[FR Doc. 2021-23823 Filed 11-1-21; 8:45 am]

BILLING CODE 7020-02-P